DEPARTMENT OF COMMERCE

National Oceanic and Atmospheric Administration

[RTID 0648-XE717]

Draft Aquaculture Opportunity Area Options—Alaska State Waters

AGENCY: National Marine Fisheries Service (NMFS), National Oceanic and Atmospheric Administration (NOAA), Commerce.

ACTION: Notice of availability; request for comments.

SUMMARY: NOAA's National Centers for Coastal Ocean Science (NCCOS) collaborated with NOAA NMFS to initiate a marine spatial planning study to identify draft Aquaculture Opportunity Area (AOA) Options within State waters of southeast, southcentral, and southwest Alaska as part of the AOA identification process. An AOA is a defined geographic area that has been evaluated to determine its potential suitability for commercial aquaculture. NOAA is identifying AOAs as directed by Executive Order, “Promoting American Seafood Competitiveness and Economic Growth” (May 7, 2020). This notice invites public comment on the preliminary results of the marine spatial planning study including the identification of draft AOA Options in Alaska State waters. NMFS will consider information received in response to this notice when finalizing the results of the marine spatial planning study, and may or may not identify AOAs after further public participation and review under the National Environmental Policy Act (NEPA).

DATES: Submit your comments on the marine spatial planning study and draft AOA Options by May 23, 2025. Late submissions may not be considered. NMFS and NCCOS will hold two virtual listening sessions for the collection of oral comments at the following dates and times (see ADDRESSES section for the link to register):

1. Thursday, May 8, 2025, 2 p.m. to 4 p.m. (Alaska Time).

2. Friday, May 16, 2025, 9 a.m. to 11 a.m. (Alaska Time).

ADDRESSES: This document is available on the NMFS Alaska Region website at: https://www.fisheries.noaa.gov/action/notice-availability-alaska-draft-aquaculture-opportunity-area-options and at https://www.regulations.gov by entering docket number “NOAA-NMFS-2023-0113” in the Search bar.

You may submit written comments on this document, identified by NOAA-NMFS-2023-0113, by any of the following methods:

• Electronic Submission: Submit all electronic public comments via the Federal e-Rulemaking Portal. Go to https://www.regulations.gov and type NOAA-NMFS-2023-0113 in the Search box. Click on the “Comment” icon, complete the required fields, and enter or attach your comments.

• Mail: Submit written comments to Jon Kurland, Regional Administrator, NMFS, Attn: Records Office, P.O. Box 21668, Juneau, AK 99802-1668.

Instructions: Comments sent by any other method, to any other address or individual, or received after the end of the comment period, may not be considered by NMFS. All comments received are a part of the public record and will generally be posted for public viewing on https://www.regulations.gov without change. All personal identifying information (e.g., names, address, etc.), confidential business information, or otherwise sensitive information submitted voluntarily by the sender is publicly accessible. NMFS will accept anonymous comments (enter “N/A” in the required fields if you wish to remain anonymous).

Registration for the virtual listening sessions may be completed here: https://www.fisheries.noaa.gov/action/notice-availability-alaska-draft-aquaculture-opportunity-area-options. The meetings are open to the public and free to attend.

FOR FURTHER INFORMATION CONTACT: Alicia Bishop, 323-366-5659, alicia.bishop@noaa.gov.

SUPPLEMENTARY INFORMATION:

Directives

NOAA is identifying AOAs as directed by Executive Order 13921 (E.O. 13921), “Promoting American Seafood Competitiveness and Economic Growth” (May 7, 2020). Identifying AOAs under E.O. 13921 is also consistent with directives in the National Aquaculture Act of 1980 (16 U.S.C. 2801 et seq.) and the NOAA Marine Aquaculture Policy (2011), for NOAA to facilitate sustainable aquaculture in the United States. Identifying AOAs is a non-regulatory planning effort.

Purpose

An AOA is a defined geographic area that NOAA has evaluated through both spatial analysis and the programmatic NEPA process and may be environmentally, socially, and economically appropriate to support multiple commercial aquaculture operations. This notice presents the preliminary results of a marine spatial planning study developed by NCCOS and informed by NMFS and the State of Alaska, collectively referred to as the Gulf of Alaska AOA Siting Team, and invites public comment on the draft AOA Options within the southeast, southcentral, and southwest study areas in Alaska State waters as described in the study. The preliminary results of the marine spatial planning study used a scoring and ranking process to narrow the results to 97 draft AOA Options that have high relative suitability scores. In Alaska, the draft AOA Options include areas:

• Up to 4,000 acres per study area for subtidal shellfish and seaweed aquaculture; and

• Up to 100 acres per study area for intertidal shellfish aquaculture.

All draft AOA Options occur within Alaska State waters (less than 3 nautical miles from shore) up to 61 meters (200 feet) in depth, and meet aquaculture species environmental tolerances and gear thresholds as detailed in the marine spatial planning study. The draft NMFS/NCCOS marine spatial planning study, An Aquaculture Opportunity Analysis for the Gulf of Alaska (available at https://coastalscience.noaa.gov/data_reports/aquaculture-opportunity-analysis-gulf-of-alaska) summarizes the methods and analysis used to develop the draft AOA Options and related suitability modeling efforts. This marine spatial planning study does not reflect any agency decision on the location of an AOA or foreclose the agency's ability to evaluate alternate locations. The information within this marine spatial planning study will be used as one source to assist the agency in identifying AOA alternatives that may be evaluated in a draft PEIS, and ultimately, in identifying AOAs. This marine spatial planning study was developed for the specific purpose of preliminarily identifying locations that might be suitable for locating AOAs and includes limitations specific to that purpose.

Neither the draft AOA Options, nor the AOAs, if any are identified, are pre-permitted sites. Aquaculture can occur within or outside of these areas and each project will be required to comply with all applicable Federal and State laws and regulations regardless of location.

Requested Information From Interested or Affected Parties

Commenters should be as specific and detailed as possible to help NMFS understand and address comments, including whether your comment pertains to a particular part of the Alaska marine spatial planning study. NMFS recognizes that some information requested below may be considered privileged or confidential, or contain information about historical resources. If you determine that the information you wish to submit may fall under these categories, please do not submit comments via regulations.gov, rather contact the agency (contact alicia.bishop@noaa.gov) to discuss options for submission. All submissions to regulations.gov will be considered public.

NMFS requests comments regarding the following conditions, feasibility, and historic or current activities within or around the Alaska Draft AOA Options:

1. Is there any additional information not included in the marine spatial planning study for one or more of the draft AOA Options that could limit their relative economic and technical suitability? For example:

○ Are there additional thresholds that should be applied to finalize Alaska draft AOA Options, such as, but not limited to: a maximum distance from port or shore and/or minimum/maximum water depth?

○ Are the Alaska draft AOA Options in areas where water quality and biotoxin samples can be collected and transported to the Alaska Department of Environmental Conservation's Environmental Health Lab in Anchorage within the minimum time frames required?

○ Are there specific environmental conditions or other factors that may limit farm access, the number of practical harvest days, gear deployment, or general viability, etc. that have not been considered?

2. Are there geological, geophysical, biological, or bathymetric conditions associated with any of the Alaska draft AOA Options that are not documented in the marine spatial planning study which may impact a site's viability for aquaculture development? For example, do any of the sites contain seafloor features that would restrict anchoring gear?

3. Is there any additional information not documented in the marine spatial planning study regarding the identification of historic properties, or archaeological and cultural resource sites on the seabed or shoreline overlapping with the Alaska draft AOA Options? This includes potential nearshore and coastal archaeological sites or other historic properties within the areas described in this notice and onshore historic properties, Traditional Cultural Places, or cultural resource sites not documented in the marine spatial planning study that may impact a site's viability for aquaculture development (contact alicia.bishop@noaa.gov for options on how to submit privileged, confidential, or historical resources information).

4. Is there any additional existing spatial information not included in the marine spatial planning study about potentially conflicting uses of one or more of the Alaska draft AOA Options, including navigation (commercial shipping and recreational vessel use), fisheries (commercial, recreational, and subsistence), habitat, protected species, or other potential conflicts (contact alicia.bishop@noaa.gov for options on how to submit privileged, confidential, or historical resources information)?

5. Is there other relevant socioeconomic, cultural, biological, and/or environmental spatial data and information not documented in the marine spatial planning study?

Responses to this request are voluntary. Respondents need not reply to all questions.

Accessing Documents

Electronic copies of the marine spatial planning study An Aquaculture Opportunity Analysis for the Gulf of Alaska prepared for this action are available from https://www.regulations.gov or from the NMFS Alaska Region website at https://www.fisheries.noaa.gov/action/notice-availability-alaska-draft-aquaculture-opportunity-area-options.

Authority: E.O. 13921.

Date: April 8, 2025.
Danielle Blacklock,
Director, Office of Aquaculture, National Marine Fisheries Service, National Oceanic and Atmospheric Administration.

[FR Doc. 2025-07029 Filed 4-22-25; 8:45 am]

BILLING CODE 3510-22-P